SMALL BUSINESS ADMINISTRATION

[Disaster Declaration #10770 and #10771]

New York Disaster #NY-00041

AGENCY: U.S. Small Business Administration.

ACTION: Notice.

SUMMARY: This is a Notice of the Presidential declaration of a major disaster for the State of New York (FEMA-1670-DR), dated 12/22/2006.

Incident: Severe Storms and Flooding.

Incident Period: 11/16/2006 through 11/17/2006.

Effective Date: 12/22/2006.

Physical Loan Application Deadline Date: 2/20/2007.

Economic Injury (Eidl) Loan Application Deadline Date: 9/24/2007.

ADDRESSES: Submit completed loan applications to:

U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 12/22/2006, applications for disaster loans may be filed at the address listed above or other locally announced locations.

The following areas have been determined to be adversely affected by the disaster:

Primary Counties (Physical Damage and Economic Injury Loans):

Broome, Chenango.

Contiguous Counties (Economic Injury Loans Only):

New York; Cortland, Delaware, Madison, Otsego, Tioga.

Pennsylvania; Susquehanna, Wayne.

The Interest Rates are:

| Percent
For Physical Damage:
Homeowners With Credit Available Elsewhere: | 6.000
Homeowners Without Credit Available Elsewhere: | 3.000
Businesses With Credit Available Elsewhere: | 8.000
Other (Including Non-Profit Organizations) With Credit Available Elsewhere: | 5.250
Businesses and Non-Profit Organizations Without Credit Available Elsewhere: | 4.000
For Economic Injury:
Businesses & Small Agricultural Cooperatives Without Credit Available Elsewhere | 4.000

The number assigned to this disaster for physical damage is 10770 B and for economic injury is 107710.

(Catalog of Federal Domestic Assistance Numbers 59002 and 59008)

James E. Rivera,
Acting Associate Administrator for Disaster Assistance.

[FR Doc. E7-142 Filed 1-9-07; 8:45 am]

BILLING CODE 8025-01-P